COMMISSION OF FINE ARTS

45 CFR Part 2102

Procedures and Policies

AGENCY: The Commission of Fine Arts.

ACTION: Final rule.

SUMMARY: This document amends the procedures and policies governing the administration of the U.S. Commission of Fine Arts. It serves to modify the time limit on a recommendation for concept approval for projects submitted to the Commission under the Old Georgetown Act and the Shipstead-Luce Act in order to address more consistently the requirements and procedures of the District of Columbia government.

DATES: Effective June 16, 2008.

FOR FURTHER INFORMATION CONTACT: Thomas Luebke, Secretary, (202) 504-2200.

SUPPLEMENTARY INFORMATION: As established by Congress in 1910, the Commission of Fine Arts is a small independent advisory body made up of seven Presidentially appointed “well qualified judges of the arts” whose primary role is architectural review of designs for buildings, parks, monuments and memorials erected by the Federal or District of Columbia governments in Washington, DC. In addition to architectural review, the Commission considers and advises on the designs for coins, medals, and U.S. memorials on foreign soil. The Commission also advises the District of Columbia government on private building projects within the Georgetown Historic District, the Rock Creek Park perimeter, and the Monumental Core area. The Commission advises Congress, the President, Federal agencies, and the District of Columbia government on the general subjects of design, historic preservation, and on orderly planning on matters within its jurisdiction.

Specific items this document amends clarify the procedure. Therefore, as these changes clarify established procedures and are minor in nature, the Commission determines that notice and comment are unnecessary and that, in accordance with 5 U.S.C. 553(b)(B), good cause to waive notice and comment is established.

List of Subjects in 45 CFR Part 2102

Administrative practice and procedure, Sunshine Act.

This document was prepared under the direction of Thomas Luebke, Secretary, U.S. Commission of Fine Arts, 401 F Street, NW., Suite 312, Washington, DC 20001.

For the reasons stated in the preamble, the Commission of Fine Arts hereby amends 45 CFR part 2102 to read as follows:

PART 2102—MEETINGS AND PROCEDURES OF THE COMMISSION

1. The authority citation for part 2102 continues to read as follows:

Authority: 5 U.S.C., App. 1.

2. In § 2102.12 revise paragraphs (b) and (c) to read as follows:

§ 2102.12 Responses of Commission to submissions.

* * * * *

(b) In the case of plans submitted with a permit application subject to the Old Georgetown Act (§ 2101.1(c)), if the Commission does not respond with a report on such plans within forty-five days after their receipt by the Commission, its approval shall be assumed and a permit may be issued by the government of the District of Columbia.

(1) In the case of a concept application submitted for a project subject to the Old Georgetown Act (§ 2101.1(c)), the Commission's approval is valid for two years. At the end of the two years, the original owner for the project may submit a new concept application requesting to extend the approval for one more year. The Commission, however, may decline to extend its approval.

(2) [Reserved]

(c) In the case of plans submitted with a permit application subject to the Shipstead-Luce Act (§ 2101.1(b)), if the Commission does not respond with a report on such plans within thirty days after their receipt by the Commission, its approval shall be assumed and a permit may be issued by the government of the District of Columbia.

(1) In the case of a concept application for a project subject to the Shipstead-Luce Act (§ 2101.1(b)), the Commission's approval is valid for two years. At the end of the two years, the original owner for the project may submit a concept application requesting to extend the approval for one more year. The Commission, however, may decline to extend its approval.

(2) [Reserved]

* * * * *

Dated: May 12, 2008.
Thomas Luebke,
Secretary, U.S. Commission of Fine Arts.

[FR Doc. E8-11238 Filed 5-21-08; 8:45 am]

BILLING CODE 6330-01-P